DEPARTMENT OF THE ARMY

Notice of Termination of the Intent To Prepare an Environmental Impact Statement in Connection With Dakota Access, LLC's Request for an Easement To Cross Lake Oahe, North Dakota

AGENCY: Department of the Army, DoD.

ACTION: Notice.

SUMMARY: In light of the President's memorandum to the Secretary of the Army dated January 24, 2017, published in the Federal Register on January 30, 2017 (82 FR 8661), this notice advises the public that the Department of the Army (Army), as lead agency, effective immediately, no longer intends to prepare an environmental impact statement (EIS) in connection with the Dakota Access, LLC's request to grant an easement to cross Lake Oahe, which is on the Missouri River and owned by the U.S. Army Corps of Engineers (Corps). Therefore, the Notice of Intent announced in the Federal Register on January 18, 2017 (82 FR 5543) is terminated.

SUPPLEMENTARY INFORMATION: This notice is published in accordance with sections 1503.1 and 1506.6 of the CEQ's Regulations (40 CFR parts 1500-1508) implementing the procedural requirements of NEPA, as amended (42 U.S.C. 4321 et seq.), and the Army and Corps' NEPA implementation policies (32 CFR part 651 and 33 CFR part 230), and exercises the authority delegated to the Assistant Secretary of the Army (Civil Works) by General Orders No. 2017-1, January 5, 2017.

Brenda S. Bowen,
Army Federal Register Liaison Officer.

[FR Doc. 2017-03204 Filed 2-16-17; 8:45 am]

BILLING CODE 5001-03-P